DEPARTMENT OF TRANSPORTATION

Coast Guard

33 CFR 165

[COTP Southeast Alaska 00-018]

RIN 2115-AA97

Safety Zone; Gastineau Channel, Juneau, AK; Correction

AGENCY: Coast Guard, DOT.

ACTION: Correcting amendment.

SUMMARY: This document contains corrections to the final regulations which were published in the Federal Register, June 21, 1994, (59 FR 31934). The regulations related to the movement of vessels in Gastineau Channel, Juneau, AK during the annual fireworks display. That document contained a required safety fallout radius from the barge conducting fireworks display that has changed; thus, a correction is necessary.

DATES: Effective on December 26, 2000.

FOR FURTHER INFORMATION CONTACT: Lieutenant Cecil McNutt, United States Coast Guard Marine Safety Office Juneau, (907) 463-2470.

SUPPLEMENTARY INFORMATION:

Background

In final rule 59 FR 31934, the safety fallout radius around the barge conducting fireworks display is no longer correct because the marine event sponsor has increased the fireworks display shell size (12 inches) and amount of fireworks display (600 lbs Division 1.3G UN 0335), causing an increase in the required safety fallout radius of 300 yards around the barge conducting fireworks display activities.

Need for Correction

As published, the final regulations contain errors which may prove to be dangerous to the public and need to be amended. Accordingly, 33 CFR Part 165 is corrected by making the following correcting amendments:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

§ 165.1706 [Amended]

2. In § 165.1706 paragraph (a), remove the word “100” and add the word “300” in its place, respectively.

Dated: December 5, 2000.
Robert Lorigan,
Captain, U.S. Coast Guard, Captain of the Port, Southeast Alaska.

[FR Doc. 00-32824 Filed 12-22-00; 8:45 am]

BILLING CODE 4910-15-U